DEPARTMENT OF STATE

[Public Notice 3977]

Bureau of Educational and Cultural Affairs Request for Grant Proposals: Armenia School Connectivity Program; Request for Grant Proposals

SUMMARY: The Office of Citizen Exchanges, Youth Programs Division, of the Bureau of Educational and Cultural Affairs announces an open competition for the Armenia School Connectivity Program. Public and private non-profit organizations meeting the provisions described in IRS regulation 26 CFR 1.501(c) may submit proposals to expand the educational opportunities available in Armenia by providing access to the Internet and related training to help promote civic education and education reform. The anticipated amount of funding available for this program is $5,000,000.

Program Information

Overview

The Armenia School Connectivity Program builds on current efforts to promote civic education throughout Armenia by providing schools with Internet access and advancing education reform. To date, over 60 secondary schools have been equipped with computer classrooms that have access to the Internet, through previously funded ECA grant awards. The current grantee plans to increase this number significantly over the next year. These schools have been involved in a number of activities that include computer training, linkages with at least 20 U.S. schools, and cooperative curriculum development through Internet ties. Additionally, educators in each region have participated in professional on-site trainings in the U.S. to focus on technology, community development, civic education, and educational reform.

The Armenia School Connectivity Program (ASCP) is designed to further these efforts by increasing the number of Armenian secondary schools in the network and by expanding Internet use to the primary grades. Through this program, both primary and secondary schools in each region of Armenia will be able to incorporate civics and related resource materials into their curricula and improve general education under the guidance of specially trained teachers. In addition, this program will expand efforts to reach out to Armenian communities. Community representatives will receive technology training in order to access information and interact with international partners for the purpose of creating income-generating projects that can sustain Connectivity schools.

The provision of Internet access with related training and educational opportunities for the largest possible number of Armenian schools is a priority of the U.S. government in Armenia. The grantee(s) should work closely with the Bureau of Educational and Cultural Affairs (ECA) and the Public Affairs Section (PAS) of the U.S. Embassy in Yerevan to ensure that project implementation meets the policy goals for this program.

The goals of this program are: (1) To provide access to information via the Internet to schools across Armenia, including those in isolated areas; (2) to provide Armenian students with the opportunity to learn democratic values and to obtain information about the United States while developing technical computer-based skills; (3) to provide training and resources to improve the teaching of civic education and related fields in Armenian schools; (4) to generate and promote linkages to schools and communities in the United States and other countries; and (5) to make the computer centers self-sustaining once grant funding ends.

The main components of this program, for which grant funding is provided, are as follows:

• Computer centers—Building on the existing base, establish new centers at schools selected in consultation with PAS Yerevan and ECA.

• Internet access—Provide access to the Internet to as many Armenian primary and secondary schools as possible.

• Online projects—Link students and teachers at Armenian schools with their counterparts at U.S. schools in joint telecurriculum projects

• Training—Provide training for teacher-trainers who will in turn train teachers and students in the selected schools and, later, other community members

• Curriculum development—Develop educational resources that utilize the Internet and coordinate the use of curricula from other related programs

• Sustainability—Provide training to community representatives to assist them with identifying and developing income earning activities that will help sustain computer centers at participating schools

Guidelines

The number of grants to be awarded under this competition will be based upon the quality and responsiveness of proposals to the review criteria presented later in this Request for Grant Proposals (RFGP). For purposes of simplicity, these Guidelines refer to “grant” and “grant recipient.” Sub-grant and consortium arrangements are possibilities. This grant should begin on or about August 2002, subject to availability of funds. The grant period should be two years.

The grant recipient will be responsible for:

(1) Selecting schools in Armenia for the installation of a computer center, the provision of training, and the implementation of a civic education program that emphasizes use of the Internet. These selected schools will be partnered, either one-to-one or in small groups, with U.S. schools so that Armenian students and faculty may work on joint projects with their American peers over the Internet in order to practice their newly-developed knowledge of using this tool for educational purposes.

(2) Equipping the schools with computers, printers, and other items necessary to afford them Internet connectivity. This will be accompanied by improvements to the classrooms to ensure that the facilities are suitable and secure. Once established, a center will be staffed by a site monitor who will oversee its use.

(3) Training a core group of Armenian educators in Internet education, American Studies, English, civic education, curriculum development, and teaching methodologies. These educators will be employed by the grant recipient to train others in their respective regions. They will also be responsible for ongoing support, project implementation and site supervision. In addition to training in each region of Armenia, a limited number of exchanges û Armenian trainers to the United States and U.S. trainers to Armenia û will facilitate these training efforts and bring the new trainers in contact with teachers who are already skilled in using the Internet in the classroom. The training of teachers and students will focus on basic computer skills, use of electronic mail and bulletin boards, and use of the World Wide Web for research and for supplementing lesson plans. The Armenian educators will also supervise the site monitors and oversee school partnership projects.

(4) Developing the content of Internet activities, once schools have access to the Internet and the students and teachers have acquired basic computer and Internet skills. Armenian students and teachers should receive training and resources to use the Internet to learn about civil society, including the basics of democracy, volunteerism, conflict resolution, good citizenship, and civic responsibility, such as voting. Students and teachers may use the Internet for English and American Studies topics, such as literature, history, government, and geography, and for the improvement of teaching of such subjects as economics and social studies researching the riches of the Internet and learning to use them in the standard curriculum. The development of educational resources, including the incorporation of materials created on other USG funded initiatives and other available and appropriate educational materials, will be a key responsibility of the grant recipient.

(5) Developing sustainability strategies in communities where schools have been selected. Projects may foster the development of local businesses using Internet technology. Community representatives may identify income-generating activities and will use technology to shape a sustainable development path for the computer centers in their communities. Community members may receive training in issues such as developing a needs assessment, entrepreneurship, management, marketing, and fundraising.

(6) Providing on-going support for schools that are currently on the program. This includes connectivity, upgrades, training, online projects, troubleshooting, and staff support. Neighboring schools should be included, as much as possible, in projects, training and special events. For a list of schools in the existing network, contact the Bureau Program Officer Anna Mussman at amussman@pd.state.gov.

Programs must comply with J-1 visa regulations. Please refer to the Solicitation Package for further information.

The Bureau reserves the right to accept proposals in whole or in part and make an award or awards in accordance with what serves the best interest of the Armenia School Connectivity Program. In the selection of participants, the Bureau and the U.S. Embassy retain the right to review all participant nominations and to accept or refuse participants recommended by the grantee institution(s). Awards will be subject to periodic reporting and evaluation requirements.

Budget Guidelines

All organizations applying under this competition must demonstrate in their proposal narrative a minimum of four years experience managing and conducting international exchange programs. Bureau grant guidelines require that organizations with less than four years experience conducting and managing international exchanges be limited to $60,000 in Bureau funding. It is anticipated that the grant or grants awarded under the competition will total $5,000,000 and exceed the $60,000 ceiling. Therefore organizations with less than four years experience, per above, are not eligible to apply under this competition.

The Bureau reserves the right to accept proposals in whole or in part and make an award or awards in accordance with what serves the best interest of the Armenia School Connectivity Program. Applicants must submit a summary budget that includes all program components as well as breakdowns reflecting both administrative and program budgets. Applicants should provide separate sub-budgets for each program component, phase, location, or activity to provide clarification. Administrative costs, including indirect rates, should be kept to a minimum and cost-shared as possible.

Please refer to the Solicitation Package for complete budget guidelines and formatting instructions.

Announcement Title and Number: All correspondence with the Bureau concerning this RFGP should reference the above title and number ECA/PE/C/PY-02-63.

FOR FURTHER INFORMATION, CONTACT: The Youth Programs Division, Office of Citizen Exchanges, ECA/PE/C/PY, Room 568, U.S. Department of State, 301 4th Street, SW., Washington, DC 20547, (202) 619-5904; Fax: (202) 619-5311; E-mail: amussman@pd.state.gov to request a Solicitation Package. The Solicitation Package contains detailed award criteria, required application forms, specific budget instructions, and standard guidelines for proposal preparation. Please specify Bureau Program Officer Anna Mussman on all inquiries and correspondence.

Please read the complete Federal Register announcement before sending inquiries or submitting proposals. Once the RFGP deadline has passed, Bureau staff may not discuss this competition with applicants until the proposal review process has been completed.

To Download a Solicitation Package Via Internet: The entire Solicitation Package may be downloaded from the Bureau's website at http://exchanges.state.gov/education/rfgps. Please read all information before downloading.

Deadline for Proposals: All proposal copies must be received at the Bureau of Educational and Cultural Affairs by 5 p.m. Washington, DC time, on June 3, 2002. Faxed documents will not be accepted at any time. Documents postmarked the due date but received on a later date will not be accepted. Each applicant must ensure that the proposals are received by the above deadline.

Applicants must follow all instructions in the Solicitation Package. The original, one fully tabbed copy, six copies tabbed A-E, and one additional cover sheet should be sent to: U.S. Department of State, SA-44, Bureau of Educational and Cultural Affairs, Ref: ECA/PE/C/PY-02-63, Ref.: Program Management, ECA/EX/PM, Room 534, 301 4th Street, SW., Washington, DC 20547.

No later than one week after the competition deadline, applicants must also submit the Proposal Title Sheet, Executive Summary, and Proposal Narrative sections of the proposal as e-mail attachments in Microsoft Word (preferred), Word Perfect, or as ASCII text files to the following e-mail address: amussman@pd.state.gov. To reduce the time needed to obtain advisory comments from the Public Affairs Section of the U.S. Embassy in Armenia, the Bureau will transmit these files electronically to these offices.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the 'Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as officers of the Bureau of European and Eurasian Affairs and the U.S. Embassy. Eligible proposals will be forwarded to panels of Bureau officers for advisory review. Proposals may also be reviewed by the Office of the Legal Adviser or by other Department elements. Final funding decisions are at the discretion of the Department of State's Assistant Secretary for Educational and Cultural Affairs. Final technical authority for awards (grants or cooperative agreements) resides with the Bureau's Grants Officer.

Review Criteria

Technically eligible applications will be competitively reviewed according to the criteria stated below. These criteria are not rank ordered and all carry equal weight in the proposal evaluation:

1. Quality of the program idea: Proposals should display an understanding of the goals of the Armenia School Connectivity Program, as reflected in the priorities of this RFGP. Program objectives should have significant and ongoing results for the participating schools and their surrounding communities. Exchange activities should ensure sufficient use of program resources. Proposals should demonstrate a commitment to excellence and creativity in the implementation and management of the program.

2. Program planning: Proposals should respond to the requirements outlined in the RFGP. A detailed agenda and work plan, including a time line, should demonstrate feasibility and the applicant's logistical capacity to implement the program.

3. Multiplier effect/impact: Proposed programs should strengthen long-term mutual understanding, including maximum sharing of information and establishment of long-term institutional and individual linkages.

4. Support of Diversity: Proposals should demonstrate the applicant's awareness and understanding of diversity and a commitment to its achievement through administrative and programmatic aspects of the program.

5. Institutional Capacity and Ability to Achieve Program Objectives: Applicants should also indicate a minimum of four years experience conducting international exchange programs. Applicants should also demonstrate knowledge of the Armenian educational environment and display significant experience in developing Internet-based programs at the primary and secondary school levels. Proposals should exhibit an institutional record of successful exchange programs, including responsible fiscal management and full compliance with all reporting requirements as determined by the Bureau's Grants Division. Proposed personnel and institutional resources should be adequate and appropriate to achieve the program goals and objectives.

6. Follow-on Activities: Proposals should provide a strategy for the continuation of the schools' Internet access and online linkages to other schools.

7. Project Evaluation: Proposals should include a plan to evaluate the activity's success in achieving program objectives, both as the activities unfold and at the end of the program. The evaluation plan should include relating data collection and assessment tools. A draft survey questionnaire or other technique plus description of a methodology to use to link outcomes to original project objectives are recommended. Program evaluation should provide observations about the program's influence within the participating schools as well as their surrounding communities. Successful applicants will be expected to submit intermediate reports for each three-month period of the grant.

8. Cost-effectiveness and cost-sharing: As many Armenian schools as possible should be included in this project. While lower “per school” figures will be more competitive, the Bureau expects all figures provided to be realistic. The overhead and administrative components of the proposal, including salaries and honoraria, should be kept as low as possible. All other items should be necessary and appropriate. Proposals should maximize cost-sharing through other private sector support.

Authority: Overall grant making authority for this program is contained in the Mutual Educational and Cultural Exchange Act of 1961, Public Law 87-256, as amended, also known as the Fulbright-Hays Act. The purpose of the Act is “to enable the Government of the United States to increase mutual understanding between the people of the United States and the people of other countries* * *; to strengthen the ties which unite us with other nations by demonstrating the educational and cultural interests, developments, and achievements of the people of the United States and other nations* * *and thus to assist in the development of friendly, sympathetic and peaceful relations between the United States and the other countries of the world.” The funding authority for the program above is provided through the FREEDOM Support Act of 1992.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: April 4, 2002.
Rick A. Ruth,
Principal Deputy Assistant Secretary, Bureau of Educational and Cultural Affairs, Department of State.

[FR Doc. 02-8836 Filed 4-10-02; 8:45 am]

BILLING CODE 4710-05-P